DEPARTMENT OF TRANSPORTATION

Surface Transportation Board

Notice and Request for Comments

AGENCY: Surface Transportation Board, DOT.

ACTION: 60-Day notice of intent to seek extension of approval: Waybill Compliance Survey.

SUMMARY: As required by the Paperwork Reduction Act of 1995, 44 U.S.C. 3501-3521 (PRA), the Surface Transportation Board (STB or Board) gives notice of its intent to seek approval from the Office of Management and Budget (OMB) for an extension of the Waybill Compliance Survey. This information collection is described in detail below.

Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collection

Title: Waybill Compliance Survey.

OMB Control Number: 2140-0010.

STB Form Number: None.

Type of Review: Extension without change.

Respondents: Regulated railroads that did not submit carload waybill sample information to the STB in the previous year.

Number of Respondents: 523.

Estimated Time per Response: .5 hours.

Frequency: Annually.

Total Burden Hours (annually including all respondents): 60.

Total “Non-hour Burden” Cost: None identified. Filings are submitted electronically to the Board.

Needs and Uses: Under the Interstate Commerce Act, as amended by the ICC Termination Act of 1995, Pub. L. 104-88, 109 Stat. 803 (1995), the Board is responsible for the economic regulation of common carrier rail transportation, including the collection and administration of the Carload Waybill Sample. Under 49 CFR part 1244, a railroad terminating 4,500 or more carloads, or terminating at least 5% of the total revenue carloads that terminate in a particular state, in any of the three preceding years is required to file carload waybill sample information (Waybill Sample) for all line-haul revenue waybills terminating on its lines. (The Waybill Sample collection is approved under OMB Control Number 2140-0015, which expires on June 30, 2017.) The information in the Waybill Sample is used to monitor traffic flows and rate trends in the industry.

In order to determine whether any of the surveyed railroads should be filing a Waybill Sample, the Board needs to collect the information in the Waybill Compliance Survey—information on the number of carloads of traffic terminated each year by U.S. railroads—from railroads that are not filing a Waybill Sample. In addition, information collected in the Waybill Compliance Survey, on a voluntary basis, about the total operating revenue of each railroad helps to determine whether respondents are subject to other statutory or regulatory requirements. Because many of the Board's reporting requirements apply only to railroads with large operating revenues, accurate determinations regarding the size of a railroad's operating revenues help the Board minimize the reporting burden for smaller railroads. The Board has authority to collect this information under 49 U.S.C. 11144-45, and under 49 CFR 1244.2.

DATES: Comments on this information collection should be submitted by December 29, 2015.

ADDRESSES: Direct all comments to Chris Oehrle, Surface Transportation Board, 395 E Street SW., Washington, DC 20423-0001, or to PRA@stb.dot.gov. When submitting comments, please refer to “Waybill Compliance Survey.” For further information regarding this collection or to obtain a copy of this collection form, the “Annual Waybill Compliance Survey,” contact Pedro Ramirez at (202) 245-0333 or at pedro.ramirez@stb.dot.gov. [Assistance for the hearing impaired is available through the Federal Information Relay Service (FIRS) at 1-800-877-8339.]

SUPPLEMENTARY INFORMATION: Under the PRA, a federal agency that conducts or sponsors a collection of information must display a currently valid OMB control number. A collection of information, which is defined in 44 U.S.C. 3502(3) and 5 CFR 1320.3(c), includes agency requirements that persons submit reports, keep records, or provide information to the agency, third parties, or the public. Under § 3506(c)(2)(A) of the PRA, federal agencies are required to provide, prior to an agency's submitting a collection to OMB for approval, a 60-day notice and comment period through publication in the Federal Register concerning each proposed collection of information, including each proposed extension of an existing collection of information.

Dated: October 27, 2015.
Jeffrey Herzig,
Clearance Clerk.

[FR Doc. 2015-27726 Filed 10-29-15; 8:45 am]

BILLING CODE 4915-01-P